FEDERAL ACCOUNTING STANDARDS ADVISORY BOARD

Notice of Request for Comments on Proposed Deferred Maintenance and Repairs Standards

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board (FASAB) is requesting comments on the Exposure Draft, Deferred Maintenance and Repairs, Amending Statements of Federal Financial Accounting Standards 6, 14, 29 and 32.

The Exposure Draft is available on the FASAB home page http://www.fasab.gov/board-activities/documents-for-comment/exposure-drafts-and-documents-for-comment/. Copies can be obtained by contacting FASAB at (202) 512-7350. Respondents are encouraged to comment on any part of the exposure draft. Written comments on the Exposure Draft are requested by September 16, 2011. Comments on the Exposure Drafts should be sent to: Wendy M. Payne, Executive Director, Federal Accounting Standards Advisory Board, 441 G Street, NW., Suite 6814, Mail Stop 6K17V, Washington, DC 20548.

FOR FURTHER INFORMATION CONTACT: Wendy Payne, Executive Director, at (202) 512-7350.

Authority: Federal Advisory Committee Act, Pub. L. 92-463.

Dated: June 29, 2011.
Charles Jackson,
Federal Register Liaison Officer.

[FR Doc. 2011-16796 Filed 7-1-11; 8:45 am]

BILLING CODE 1610-02-P